FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Savings and Loan Holding Company Registration Statement (FR LL-10(b); OMB No. 7100-0337).

DATES: Comments must be submitted on or before January 3, 2023.

ADDRESSES: You may submit comments, identified by FR LL-10(b), by any of the following methods:

• Agency Website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St. NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement, and other documentation, will be made available on the Board's public website at https://www.federalreserve.gov/apps/reportforms/review.aspx or may be requested from the agency clearance officer, whose name appears above. Final versions of these documents will be made available at https://www.reginfo.gov/public/do/PRAMain, if approved.

Request for Comment on Information Collection Proposals

The Board invites public comment on the following information collection, which is being reviewed under authority delegated by the OMB under the PRA. Comments are invited on the following:

a. Whether the proposed collections of information are necessary for the proper performance of the Board's functions, including whether the information has practical utility;

b. The accuracy of the Board's estimate of the burden of the proposed information collections, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collections

Collection title: Savings and Loan Holding Company Registration Statement.

Collection identifier: FR LL-10(b).

OMB control number: 7100-0337.

Frequency: Event-generated.

Respondents: Savings and loan holding companies (SLHCs).

Estimated number of respondents: Registration, 6; deregistration, 1; recordkeeping, 6.

Estimated average hours per response: Registration, 8; deregistration, 1; recordkeeping, 0.25.

Estimated annual burden hours: Registration, 48; deregistration, 1; recordkeeping, 2.

General description of collection: The FR LL-10(b) requests information from registering SLHCs on the financial condition, ownership, operations, management, and intercompany relationships of the SLHC and its subsidiaries. Additionally, respondents must include information concerning the transaction that resulted in the respondent becoming an SLHC, a description of the SLHC's business, and a description of any changes related to the financial condition, ownership, operations, intercompany relationships, and management of the SLHC and its subsidiaries since the registrant's application to become an SLHC was approved. The principal executive or principal financial officer of the registering SLHC must certify that the information contained in the submission has been carefully reviewed and is true, correct, and complete.

Proposed revisions: The Board proposes to revise the FR LL-10(b) by clearing an existing information collection that has not previously been cleared. Specifically, Supervision and Regulation Letter (SR Letter) 11-12 ¹ notes that an SLHC that controls only one savings association subsidiary, provided that subsidiary functions solely in a trust or fiduciary capacity, may submit a request to the Board to deregister as an SLHC in accordance with a statutory exception.² In submitting such a request, the requesting SLHC should affirm that its savings association affiliate meets the relevant statutory requirements described in the SR Letter. The Board also plans to make certain clarifications to the instructions for the registration statement:

¹ SR 11-12: Deregistration Procedures for Certain Savings and Loan Holding Companies (July 21, 2011), available at https://www.federalreserve.gov/supervisionreg/srletters/sr1112.htm.

² See 12 U.S.C. 1467a(a)(1)(D)(ii)(II).

• In the Filing Requirements section, adding additional language clarifying that a respondent must retain a copy of the signed form at least three years, unless it ceases to be an SLHC before then.

• In the Public Information section, adding additional language on the Board's procedures for requesting confidential treatment, including the relevant regulatory citation.

• In the Requested Information section, Item 1.C., General Information, clarifying that the background information requested includes formations of savings associations or SLHCs.

• In the Requested Information section, Item 2, Amendments and Revisions to Information Provided in Savings and Loan Holding Company Application, clarifying that the requested information includes formations of SLHCs and related subsidiaries.

• In the Requested Information section, Item 4, Savings and Loan Holding Company Status and Basis of Control, clarifying that the documentation requirements include formations of savings associations and SLHCs, and that responses should be limited to changes since submitting the SLHC application.

Legal authorization and confidentiality: The FR LL-10(b) is authorized by sections 10(b)(1) and 10(b)(6) of the Home Owners' Loan Act.³ The FR LL-10(b) is mandatory for new SLHCs required to obtain a benefit for requests for deregistration as an SLHC.

³ 12 U.S.C. 1467a(b)(1) and (b)(6) (requiring SLHCs to register with the Board on such forms as it may prescribe and authorizing the Board to release a registered SLHC from registration upon motion or application).

The information submitted under the FR LL-10(b) is not considered confidential unless an applicant requests confidential treatment in accordance with the Board's Rules Regarding Availability of Information.⁴ Requests for confidential treatment of information are reviewed on a case-by-case basis. Information provided under the FR LL-10(b) may be nonpublic commercial or financial information that is both customarily and actually treated as private by the respondent, which is protected from disclosure pursuant to exemption 4 of the Freedom of Information Act (FOIA).⁵ Submissions under the FR LL-10(b) may also contain personnel and medical files the disclosure of which would constitute a clearly unwarranted invasion of personal privacy, which are protected under exemption 6 of the FOIA.⁶

⁴ 12 CFR 261.17.

⁵ 5 U.S.C. 552(b)(4).

⁶ 5 U.S.C. 552(b)(6).

Board of Governors of the Federal Reserve System, November 1, 2022.
Michele Taylor Fennell,
Deputy Associate Secretary of the Board.

[FR Doc. 2022-24030 Filed 11-3-22; 8:45 am]

BILLING CODE 6210-01-P